DEPARTMENT OF THE INTERIOR

Bureau of Land Management

[LLCOF02400.L16100000.DQ0000.LXSSC0100000.20X]

Notice of Availability of the Proposed Resource Management Plan and Associated Environmental Impact Statement for the Browns Canyon National Monument, Colorado

AGENCY: Bureau of Land Management.

ACTION: Notice of availability.

SUMMARY: In accordance with the National Environmental Policy Act of 1969, as amended, the Federal Land Policy and Management Act of 1976, as amended, and the National Forest Management Act of 1976, as amended, the Bureau of Land Management (BLM) Royal Gorge Field Office (RGFO), Cañon City, Colorado, and U.S. Forest Service (USFS), Pike-San Isabel National Forests and Comanche-Cimarron National Grasslands (PSICC), Pueblo, Colorado, have prepared a Proposed Resource Management Plan (RMP) and Forest Plan (FP) amendment, supported by an Environmental Impact Statement (EIS), for the Browns Canyon National Monument, and by this notice are announcing its availability.

DATES: BLM planning regulations state that any person who meets the conditions as described in the regulations may protest the BLM's Proposed RMP. The USFS has waived its objection procedures and instead adopted the BLM's administrative review process (36 CFR 219.59). A person who meets the conditions and files a protest must file the protest within 30 days of the date that the Environmental Protection Agency (EPA) publishes its Notice of Availability (NOA) in the Federal Register The EPA publishes its NOAs in the Federal Register weekly, usually on Fridays.

ADDRESSES: The Proposed RMP-FP amendment and Final EIS is available on the BLM ePlanning project website at https://go.usa.gov/xn2eC. Click the Documents and Reports link on the left side of the screen to find the electronic versions of these materials. Hard copies of the Proposed RMP-FP amendment and Final EIS are also available for public inspection by appointment at the BLM RGFO, 3028 E. Main St., Cañon City, CO 81212, and at the PSICC Salida Ranger District, 5575 Cleora Road, Salida, CO 81201.

All protests must be in writing and filed with the BLM Director, either as a hard copy or electronically via the BLM's ePlanning project website listed previously. To submit a protest electronically, go to the BLM ePlanning project website and follow the protest instructions highlighted at the top of the home page. If submitting a protest in hard copy, it must be mailed to one of the following addresses:

Regular Mail: Director (210), Attn: Protest Coordinator, P.O. Box 261117, Lakewood, CO 80226.

Overnight Delivery: Director (210), Attn: Protest Coordinator, 2850 Youngfield Street, Lakewood, CO 80215.

FOR FURTHER INFORMATION CONTACT: Joseph Vieira, Project Manager, telephone 719-246-9966; address 5575 Cleora Road, Salida, CO 81201; email blm_co_brownscanyon@blm.gov. Persons who use a telecommunications device for the deaf (TDD) may call the Federal Relay Service (FRS) at 1-800-877-8339 to contact Mr. Vieira during normal business hours. The FRS is available 24 hours a day, 7 days a week, to leave a message or question. You will receive a reply during normal business hours.

SUPPLEMENTARY INFORMATION: The BCNM was established by Presidential Proclamation 9232. The BLM and USFS have prepared the Proposed RMP-FP amendment and Final EIS for BCNM to evaluate the management strategy for monument resources, objects, and values, including resource uses and special designations within the BCNM. The planning area is located in Chaffee County, Colorado, and encompasses approximately 21,600 acres. The BCNM RMP-FP amendment will determine management for approximately 9,790 acres of BLM-administered surface land and approximately 11,810 acres of USFS-administered national forest. The monument also includes a portion of the Arkansas Headwaters Recreation Area, a cooperatively managed area along the Arkansas River administered by the BLM, the USFS, and Colorado Parks and Wildlife (CPW).

Major planning issues considered in the Proposed RMP-FP amendment and Final EIS are conserving and protecting monument resources, objects or values including bighorn sheep, peregrine falcon, terrestrial and avian wildlife habitat, cultural and historical resources, geological features and riparian values; maintaining monument values and settings; understanding and addressing tribal values including religious and other significant sites; addressing existing uses such as livestock grazing; and managing for sustainable outdoor recreation, visitor growth and visitor enjoyment. The Proposed RMP-FP amendment and Final EIS also considers BLM decisions regarding wild and scenic rivers, areas of critical environmental concern, management of lands with wilderness characteristics and USFS decisions regarding wilderness suitability determinations.

The Proposed RMP-FP amendment and Final EIS describe and analyze three action alternatives and the No Action alternative. Each includes goals, objectives, allowable uses and management actions to address management challenges and issues and reflects management direction in Presidential Proclamation 9232.

Alternative A continues existing management, as reflected in decisions from the Royal Gorge Resource Area Management Plan (BLM 1996) and the Pike and San Isabel National Forests and Cimarron and Comanche National Grasslands Land and Resource Management Plan (USFS 1984), as amended. Alternative B focuses on protecting monument resources, objects, and values while providing primarily non-motorized recreation activities, such as hiking and boating, in a predominantly primitive and back-country setting. Alternative B limits future recreational infrastructure development while still allowing varied river-based and upland outdoor recreation experiences and outcomes. Alternative C focuses on a wider variety of river and upland recreation opportunities in backcountry, middle and front country settings to enhance the local economy and quality of life for residents and visitors. Alternative C includes protections for monument resources, objects, and values though emphasizes more proactive management of natural resources to address stressors and drivers, and a wider range of recreation opportunities and access as compared with management under Alternative B. Alternative D is the Proposed RMP-FP amendment and is a reasonable combination of management components from Alternatives A, B, and C presented in the Draft RMP-FP amendment and Draft EIS. The BLM and USFS developed the Proposed RMP-FP amendment consistent with DOI shared conservation and USFS ecosystem service and sustainable recreation priorities.

The BCNM Draft RMP-FP amendment and Draft EIS public comment period began on October 4, 2019. The BLM and USFS held three open-house public meetings in November 2019 and two webinars in December 2019. The BLM and USFS consulted with cooperating agencies and considered and incorporated public comments, as appropriate, in the Proposed RMP-FP amendment and Final EIS.

Instructions for filing a protest with the Director of the BLM regarding the Proposed RMP-FP amendment may be found online at https://www.blm.gov/programs/planning-and-nepa/public-participation/filing-a-plan-protest and at 43 CFR 1610.5-2. All protests must be in writing and mailed to the appropriate address, as set forth in the ADDRESSES section or submitted electronically through the BLM ePlanning project website as described earlier. Protests submitted electronically by any means other than the ePlanning project website protest section, including by fax, also must be submitted in hard copy.

Before including your phone number, email address, or other personal identifying information in your protest, you should be aware that your entire protest—including your personal identifying information—may be made publicly available at any time. While you can ask us in your protest to withhold your personal identifying information from public review, we cannot guarantee that we will be able to do so.

Authority: 40 CFR 1506.6, 40 CFR 1506.10, 43 CFR 1610.2, 43 CFR 1610.5

Jamie E. Connell,
Colorado State Director.

[FR Doc. 2020-07744 Filed 4-16-20; 8:45 am]

BILLING CODE 4310-JB-P